DEPARTMENT OF THE INTERIOR

Fish and Wildlife Service

[FWS-R1-R-2013-N096; 12560-0000-10137 S3]

Dungeness National Wildlife Refuge, Clallam County, WA; Comprehensive Conservation Plan and Finding of No Significant Impact for Environmental Assessment

AGENCY: Fish and Wildlife Service, Interior.

ACTION: Notice of availability.

SUMMARY: We, the U.S. Fish and Wildlife Service (Service), announce the availability of our comprehensive conservation plan (CCP) and finding of no significant impact (FONSI) for the environmental assessment (EA) for the Dungeness National Wildlife Refuge (Refuge). In this CCP, we describe how we will manage the Refuge for the next 15 years.

ADDRESSES: You may view or obtain copies of the CCP and FONSI by any of the following methods. You may request a hard copy or a CD-ROM of the document.

Agency Web site: Download the CCP and FONSI at http://www.fws.gov/pacific/planning/main/docs/wa/docsdungeness.htm.

Email: FW1PlanningComments@fws.gov. Include “Dungeness NWR CCP” in the subject line of the message.

Fax: Attn: Deputy Project Leader, (360) 457-9778.

Mail: Washington Maritime National Wildlife Refuge Complex, 715 Holgerson Rd., Sequim, WA 98382.

In-Person Viewing or Pickup: Call (360) 457-8451 to make an appointment during regular business hours at the above address.

For more information on locations for viewing or obtaining documents, see “Public Availability of Documents” under SUPPLEMENTARY INFORMATION.

FOR FURTHER INFORMATION CONTACT: Lorenz Sollmann, Deputy Project Leader, phone (360) 457-8451.

SUPPLEMENTARY INFORMATION:

Introduction

With this notice, we finalize the CCP process for the Refuge. We started this process through a notice in the Federal Register (76 FR 61378; October 4, 2011). We released the draft CCP/EA to the public, announcing it and requesting comments in a notice of availability in the Federal Register (77 FR 71011; November 28, 2012).

We announce the availability of the FONSI for the CCP/EA in accordance with National Environmental Policy Act (40 CFR 1506.6(b)) requirements. We completed a thorough analysis of impacts on the human environment in the draft CCP/EA.

The CCP will guide us in managing and administering the Refuge for the next 15 years. Alternative B in the draft CCP/EA was selected for implementation. To address public comments received on the draft CCP/EA, changes and clarifications were made to the final CCP where appropriate. A summary of the public comments we received is included in the final CCP with our responses.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including hunting, fishing, wildlife observation and photography, and environmental education and interpretation. We will review and update each CCP at least every 15 years in accordance with the Refuge Administration Act.

Selected Alternative

Under the selected alternative, our emphasis on protecting and maintaining forested, near shore, freshwater wetland, and stream-riparian habitats will continue, with an increased level of active habitat management, monitoring, and enhancement.

The Refuge's public use activities will include: Saltwater fishing, shell-fishing (clams and crabs), wildlife observation and photography, hiking, no-wake boating, jogging, horseback riding (with stipulations), beach use, and environmental education and interpretation. The areas and timing of public access will remain the same with some exceptions, including new boat-landing hours and jogging stipulations. Jogging will be allowed on the trail adjacent to the Refuge's parking lots and along the west beach from the end of the upland forested trail to the Refuge's western boundary. Horseback riding would be allowed with stipulations, on the beach west of where the main trail meets Dungeness Spit, if a safe and legal alternate access route can be obtained. If an alternate access route is obtained from the east, horseback riding on a Refuge-owned road to the beach would be allowed. Staff and volunteer time devoted to visitors and community outreach will increase. New orientation materials, regulatory signage, and volunteer opportunities will be developed.

The effects of climate change on Refuge resources will be considered during management activities, and we will reduce the Refuge's carbon footprint. Invasive species will be monitored and controlled. Other management activities include fire management, maintenance of existing structures, coordination with State, Tribal, and other partners; cultural resources protection, and land protection within the approved Refuge boundary. All actions are subject to funding availability.

Public Availability of Documents

Printed copies will be available at the Refuge and at the following libraries.

North Olympic Public Library Sequim Branch, 630 N. Sequim Ave., Sequim, WA 98382.

North Olympic Public Library Port Angeles Branch, 2210 South Peabody St., Port Angeles, WA 98362.

Port Townsend Public Library, 1220 Lawrence St., Port Townsend, WA 98368.

Jefferson County Central Library, 620 Cedar Ave., Port Hadlock, WA 98339.

Dated: May 10, 2013.
Hugh Morrison,
Acting Regional Director, Pacific Region, Portland, Oregon.

Editorial Note: This document was received in the Office of the Federal Register on November 5, 2013.

[FR Doc. 2013-26798 Filed 11-7-13; 8:45 am]

BILLING CODE 4310-55-P